DEPARTMENT OF THE INTERIOR

Fish and Wildlife Service

[FWS-R9-WSR-2009-N125] [[91400-5110-POLI-7B and 91400-9410-POLI-7B]

Information Collection Sent to the Office of Management and Budget (OMB) for Approval; OMB Control Number 1018-0109; Wildlife and Sport Fish Grants and Cooperative Agreements

AGENCY: Fish and Wildlife Service, Interior.

ACTION: Notice; request for comments.

SUMMARY: We (Fish and Wildlife Service) have sent an Information Collection Request (ICR) to OMB for review and approval. The ICR, which is summarized below, describes the nature of the collection and the estimated burden and cost. OMB approval for this information collection is scheduled to expire on June 30, 2009. We may not conduct or sponsor and a person is not required to respond to a collection of information unless it displays a currently valid OMB control number. However, under OMB regulations, we may continue to conduct or sponsor this information collection while it is pending at OMB.

DATES: You must send comments on or before July 15, 2009.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-0109.

Title: Wildlife and Sport Fish Grants and Cooperative Agreements.

Service Form Number(s): None.

Type of Request: Revision of a currently approved collection.

Affected Public: States; the Commonwealths of Puerto Rico and the Northern Mariana Islands; the District of Columbia; the territories of Guam, U.S. Virgin Islands, and American Samoa; federally-recognized tribal governments; institutions of higher education; and nongovernmental organizations.

Respondent's Obligation: Required to obtain or retain a benefit.

Frequency of Collection: We require applications annually for new grants. We require amendments on occasion when key elements of a project change. We require quarterly and final performance reports in the National Outreach and Communication Program and annual and final performance reports in the other 17 programs. We may require more frequent reports under the conditions stated at 43 CFR 12.52 and 43 CFR 12.914.

Activity | Number of annual respondents | Number of annual responses | Completion time per response | Annual burden hours
Initial Application (project narrative) | 200 | 2,500 | 40 hours | 100,000
Amendment | 150 | 1,500 | 2 hours | 3,000
Performance Reports | 200 | 3,500 | 6 hours | 21,000
Totals | 550 | 7,500 |  | 124,000

Abstract: We administer 18 wildlife and sport fish financial assistance programs. For a list of the programs included in this information collection, see our previous notice published on March 18, 2009 (74 FR 11596). We provide most of this financial assistance as grants, but cooperative agreements are possible if the Federal Government is substantially involved in carrying out the project.

To compete for financial assistance funds, you must submit an application that describes in substantial detail project locations, benefits, funding, and other characteristics. Materials to assist applicants in formulating project proposals are available on Grants.gov. We use the application to determine:

(1) Eligibility for the grant.

(2) The scale of resource values or relative worth of the project.

(3) The effect of the project on environmental and cultural resources.

(4) How well the proposed project will meet the purposes of the program's establishing legislation.

Persons or entities receiving grants must submit periodic performance reports that contain information necessary for us to track costs and accomplishments.

Comments: On March 18, 2009, we published in the Federal Register (74 FR 11596) a notice of our intent to request that OMB renew this information collection. In that notice, we solicited comments for 60 days, ending on May 18, 2009. We received one comment in response to the notice. The commenter stated that many of the grant programs “need cutting” and opposed any expenditure of public funds for hunter education and safety training. The commenter did not address the information collection requirements, and we did not did not make any changes based on this comment.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: June 9, 2009
Hope Grey,
Information Collection Clearance Officer, Fish and Wildlife Service.

FR Doc. E9-14036 Filed 6-12-09; 8:45 am

BILLING CODE 4310-55-S